DEPARTMENT OF HOMELAND SECURITY

Federal Emergency Management Agency

Agency Information Collection Activities: Submission for OMB Review; Comment Request

AGENCY: Federal Emergency Management Agency, DHS.

ACTION: Notice; 30-day notice and request for comments; Revision of a currently approved collection, OMB Number 1660-0021, FEMA Form 95-22.

SUMMARY: The Federal Emergency Management Agency (FEMA) has submitted the following information collection to the Office of Management and Budget (OMB) for review and clearance in accordance with the requirements of the Paperwork Reduction Act of 1995. The submission describes the nature of the information collection, the categories of respondents, the estimated burden (i.e., the time, effort and resources used by respondents to respond) and cost, and includes the actual data collection instruments FEMA will use.

Title: National Fire Academy Executive Fire Officer Program Application Form.

OMB Number: 1660-0021.

Abstract: The Executive Fire Officer Program (EFOP) annually receives more applications from qualified applicants than there are program slots available. Additional information is required to objectively evaluate the applicant's writing capability, professional accomplishments, and analytical ability. This information along with supporting documentation are used to select the most qualified participants for the EFOP.

Affected Public: Individuals and households, and State, Local or Tribal Governments.

Number of Respondents: 400.

Estimated Time per Respondent: 1 Hour.

Estimated Total Annual Burden Hours: 800 Hours.

Frequency of Response: Annually.

Comments: Interested persons are invited to submit written comments on the proposed information collection to the Office of Information and Regulatory Affairs, Office of Management and Budget, Attention: Nathan Lesser, Desk Officer, Department of Homeland Security/FEMA, and sent via electronic mail to oira_submission@omb.eop.gov or faxed to (202) 395-6974. Comments must be submitted on or before November 15, 2007.

FOR FURTHER INFORMATION CONTACT: Requests for additional information or copies of the information collection should be made to Director, Records Management Division, FEMA, 500 C Street, SW., Room 609, Washington, DC 20472, facsimile number (202) 646-3347, or e-mail address FEMA-Information-Collections@dhs.gov.

Dated: October 9, 2007.
John A. Sharetts-Sullivan,
Director, Records Management Division, Office of Management Directorate, Federal Emergency Management Agency, Department of Homeland Security.

[FR Doc. E7-20343 Filed 10-15-07; 8:45 am]

BILLING CODE 9110-17-P